DEPARTMENT OF HOMELAND SECURITY

U.S. Customs and Border Protection

Agency Information Collection Activities: Extension of a Currently Approved Information Collection; Comment Request

ACTION: 30-day notice of information collection under review; guarantee of payment; Form I-510.

The Office of Management and Budget (OMB) approval is being sought for the information collection listed below. This information collection was previously published in the Federal Register on June 22, 2005 at 70 FR 36201, allowed for a 60-day public comment period. No comments were received on this information collection.

The purpose of this notice is to allow an additional 30 days of public comment. Comments are encouraged and will be accepted until; September 28, 2005. This process is conducted in accordance with 5 CFR Part 1320.10.

Written comments and suggestions from the public and affected agencies should address one or more of the following four points:

(1) Evaluate whether the collection of information is necessary for the proper performance of the functions of the agency, including whether the information will have practical utility;

(2) Evaluate the accuracy of the agency's estimate of the burden of the collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of this information collection:

(1) Type of Information Collection: Extension of a currently approved information collection.

(2) Title of the Form/Collection: Guarantee of Payment.

(3) Agency form number, if any, and the applicable component of the Department of Homeland Security sponsoring the collection: Form I-510. U.S. Customs and Border Protection.

(4) Affected public who will be asked or required to respond, as well as a brief abstract: Primary: Business or other for-profit. Section 253 of the Immigration and Nationality Act (INA) provides that the master or agent of a vessel or aircraft shall guarantee payment incurred for an alien crewman who arrived in the United States and is afflicted with any disease or illness mentioned in Section 255 of the INA.

(5) An estimate of the total number of respondents and the amount of time estimated for an average respondent to respond: 100 responses at five minutes: (.083) per response.

(6) An estimate of the total public burden (in hours) associated with the collection: 8 annual burden hours.

If you have additional comments, suggestions, or need a copy of the information collection instrument, please contact Mr. Richard A. Sloan, Director, Regulatory Management Division, U.S. Immigration and Citizenship Services, 111 Massachusetts Avenue, NW., Washington, DC 20529. The U.S. Citizenship and Immigration Services published this notice on behalf of the U.S. Customs and Border Protection.

Dated: August 24, 2005.
Richard A. Sloan,
Director, Regulatory Management Division, U.S. Citizenship and Immigration Services.

[FR Doc. 05-17145 Filed 8-26-05; 8:45 am]

BILLING CODE 4410-10-M